DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal Regulations that implement the National Environmental Policy Act (NEPA), announces the availability of NEPA-related Site-Specific Environmental Assessments (SEA's) and Findings of No Significant Impact (FONSI's), prepared by MMS for proposed oil and gas activities on the Gulf of Mexico OCS during the period 4/24/01 to 7/13/01.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the EA.

This notice constitutes the public notice of availability of environmental documents required under the NEPA Regulations.

This table lists all proposals for which the Gulf of Mexico OCS Region prepared a FONSI during the period 04/24/01 to 07/13/01.

Activity/operator | Location | Date
Chevron U.S.A., Inc., Development Activity/Pipline Activity, SEA Nos. S-5552, P-13269 and P-13270 | Voisca Knoll Area; Blocks 206, 207, and 251; Leases OCS-G 10926, 13980 and 10930; 30.3 miles off the coast of Alabama | 05/24/01
Chevron U.S.A. Production Co. Development Activity/Pipeline Activity, SEA Nos. N-6899 and P-13170 through P-13177 | Green Canyon Area; Blocks 236 and 237; Leases OCS-G 15562 and 15563; 91 miles south of Terrebonne Parish, Louisiana | 05/02/01
Kerr-McGee Oil and Gas Corp., Development Activity, SEA NO. N-07045 | East Breaks Area, Blocks 602 and 646, 117.5 miles off the coast of Texas | 07/13/01
Gulfstream Natural Gas System, L.L.C., Pipeline Activity, SEA No. P-12373 (G-21459) | Right of Way, OCS-G 21459, From the coastline of Coden, Alabama to the coastline of Port Manatee, Florida, Incorporate Route modifications in Florida middle ground and St. Petersburg areas | 06/01/01
Shell Offshore, Inc., Structure Removal Activity, SEA No. ES/SR 01-008A | Brazos Area, Block A-19, Lease OCS-G 03936, 36 miles southeast of Matagorda County, Texas and 91 miles southwest of Galveston | 06/05/01
Chevron U.S.A. Inc., Structure Removal Activity, SEA No. ES/SR 01-019A | South Timbalier Area, Block 69, Lease OCS-G 16422, 27 miles southwest of Fourchon, Louisiana and 18 miles south of Terrebonne Parish, Louisiana | 06/29/01
Ocean Energy, Inc., Structure Removal Activity, SEA No. ES/SR 01-124A | Mustang Island Area; Block 828; Lease OCS-G 06004; 29 miles east of Nueces County, Texas, 134 miles southeast of Freeport, Texas | 06/27/01
BP America, Inc., Structure Removal Activity, SEA No. ES/SR 01-024 | Mustang Island Area; Block 788; Lease OCS-G 15704; 26 miles southeast of Harbor Island, Texas and 24 miles southeast of Nueces County, Texas | 04/24/01
Dominion Exploration and Production, Structure Removal Activity, SEA No. ES/SR 01-025 | High Island Area (South Addition), Block A570, Lease OCS-G 02390, 175 miles southwest of Intracoastal City, Louisiana and 100 southeast of Galveston County, Texas | 04/24/01
Murphy Exploration and Production Company, Structure Removal Activity, SEA No. ES/SR 01-026 | Ship Shoal Area, Block 134, Lease OCS-G 05201, 40 miles southwest of Cocodrie, Louisiana and 21 miles south-southwest of Terrebonne Parish, Louisiana | 04/25/01
Coastal Oil & Gas Corporation Structure Removal Activity, SEA No. ES/SR 01-027 | Viosca Knoll Area, Block 123, Lease OCS-G 14591, 23 miles south of Baldwin County, Alabama | 04/27/01
Samedan Oil Corporation, Structure Removal Activity, SEA No. ES/SR 01-028 | Eugene Island Area, Block 208, Lease OCS-G 00576, 86 miles southeast of Intracoastal City, Louisiana and 41 miles south-southwest of Terrebonne Parish, Louisiana | 05/03/01
Devon Energy Production Company, L.P., Structure Removal Activity, SEA Nos. ES/SR 01-029, 01-030, 01-031, 01-032 and 01-033 | High Island Area, East and South Addition, Block A325; East Cameron Area, Block 215; West Cameron (South Addition) Area, Block 553; South Marsh Island Area, Blocks 48 and 23; Leases OCS-G 02416, 12839, 04410, 00786 and 00778; 42 to 145 miles off Louisiana coast and 105 miles off Texas coast | 05/23/01
Blue Dolphin Exploration Company, Structure Removal Activity, SEA Nos. ES/SR 01-034, 01-035, 01-036 and 01-037 | Galveston Area; Blocks 296 and 288; Leases OCS-G 00714; 34 to 35 miles east-southeast of Surfside, Texas and 26 to 27 miles southeast of Galveston County, Texas | 05/23/01
Devon Energy Production Company, L.P., Structure Removal Activity, SEA No. ES/SR 01-039 | South Marsh Island Area, Block 23, Lease OCS-G 778, 64 miles south-southeast of Intracoastal City, Louisiana and 42 miles south-southwest of Iberia Parish, Louisiana | 05/23/01
Pioneer Natural Resources USA, Inc, Structure Removal Activity, SEA Nos. ES/SR 01-040 and 01-041 | South Marsh Island (South Addition) Area, Block 155, Lease OCS-G 04110, 89 miles south of Iberia Parish, Louisiana and 110 miles south-southeast of Intracoastal City, Louisiana | 06/01/01
Samedan Oil Corporation, Structure Removal Activity, SEA Nos. ES/SR 01-042, 01-043, 01-044 and 01-045 | South Timbalier Area, Block 192; Main Pass Area, Block 95 and 89; OCSG 04463, 05242 and 06804; 38 miles south of Terrebonne Parish, Louisiana and 45 miles south of Jackson County, Mississippi | 05/25/01
Walter Oil & Gas Corporation, Structure Removal Activity, SEA Nos. ES/SR 01-046 and 01-047 | Ship Shoal Area, Block 160; Eugene Island Area, Block 78; Leases OCS-G 5547 and 11940; 52 to 76 miles off southwest and west of Fourchon, Louisiana and 14 to 25 miles south and southwest of Terrebonne Parish | 05/23/01
RME Petroleum Company, Structure Removal Activity, SEA Nos. ES/SR 01-048 and 01-049 | Eugene Island Area, Block 70; Ship Shoal Area, Block 204; Leases OCS-G 10719 and 01520; 22 to 81 miles off the Louisiana coast | 06/01/01
RME Petroleum Company, Structure Removal Activity, SEA No. ES/SR 01-050 | Eugene Island Area, Block 118, Lease OCS-G 15242, 23 miles southeast of Terrebonne Parish, Louisiana and 53 miles southeast of Morgan City, Louisiana | 06/01/01
Amerada Hess Corporation, Structure Removal Activity, SEA No. 01-051 | South Timbalier (South Addition) Area, Block 225, Lease OCS-G 05224, 46 miles south of LaFourche Parish, Louisiana and 206 miles southeast of Cameron, Louisiana | 06/11/01
Exxon Mobil Production, Structure Removal Activity, SEA Nos. ES/SR 01-052 and 01-053 | Ship Shoal Area, Block 86; West Delta Area, Block 31; Leases OCS-G 03580 and 00016; 7 to 68 miles off the Louisiana coast | 06/11/01
Tri-Union Development Corporation, Structure Removal Activity, SEA No. ES/SR 01-054 | Brazos Area, Block 476, Lease OCS-G 112374, 12 miles southeast of Matagorda County, Texas and 86 miles southwest of Galveston, Texas | 06/11/01
Shell Exploration & Production Company, Structure Removal Activity, SEA Nos. ES/SR 01-055 and 01-056 | High Island Area, Block A6, Sabine Pass Area, Block 40; Leases OCS-G 04734 and 04745; 13 to 34 miles south and south-southeast of Jefferson County, Texas and 35 to 63 miles southwest of Cameron, Louisiana | 07/12/01
Westport Resources Corporation, Structure Removal Activity, SEA Nos. ES/SR 01-057 | West Cameron Area, Block 181, Lease OCS-G 01971, 28 miles south-southwest of Cameron Parish, Louisiana and 30 miles south-southeast of Cameron, Louisiana | 06/27/01
NCX Company, Inc. Structure Removal Activity, SEA No. ES/SR 01-058 | East Cameron Area, Block 213, Lease OCS-G 04781, 82 miles southeast of Cameron, Louisiana and 62 miles south of Cameron Parish, Louisiana | 06/27/01

Persons interested in reviewing environmental documents for the proposals listed above or obtaining information about EA's and FONSI's prepared for activities on the Gulf of Mexico OCS are encouraged to contact MMS at the address or telephone in the FOR FURTHER INFORMATION CONTACT section.

Dated: July 27, 2001.
Chris C. Oynes,
Regional Director, Gulf of Mexico OCS Region.

[FR Doc. 01-21972 Filed 8-30-01; 8:45 am]

BILLING CODE 4310-MR-P